FEDERAL COMMUNICATIONS COMMISSION

Notice of Public Information Collection(s) Being Reviewed by the Federal Communications Commission

June 28, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 7, 2000. If you anticipate that you will be submitting comments, but find it difficult to do so within the period of time allowed by this notice, you should advise the contact listed below as soon as possible.

ADDRESSES: Direct all comments to Judy Boley, Federal Communications Commission, Room 1-C804, 445 12th Street, SW., DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0049.

Title: Restricted Radiotelephone Operator Permit.

Form No.: FCC Form 753.

Type of Review: Revision of a currently approved collection.

Respondents: Individuals or households.

Number of Respondents: 19,000.

Estimated Time Per Response: 20 minutes or .33 hours.

Frequency of Response: On occasion reporting requirement.

Total Annual Burden: 6,270 hours.

Total Annual Cost: $540,000.

Needs and Uses: Applicants must possess certain qualifications in order to qualify for a radio operator license. The data is submitted on FCC Form 753 aid the Commission in determining whether the applicant possesses these qualifications. This form is being revised to collect a FCC Registration Number (FRN) which is required from anyone doing business with the Commission.

The data will be used to identify the individuals to whom the license is issued and to confirm that the individual possesses the required qualifications for the license. If the data were not collected, it would be impossible to identify the person to whom the license was issued nor to determine whether the applicant were eligible for the license.

Federal Communications Commission.
Magalie Roman Salas,
Secretary.

[FR Doc. 00-17049 Filed 7-5-00; 8:45 am]

BILLING CODE 6712-01-P